DEPARTMENT OF THE INTERIOR

Bureau of Ocean Energy Management, Regulation and Enforcement

Outer Continental Shelf (OCS) Scientific Committee (SC); Announcement of Plenary Session

AGENCY: Bureau of Ocean Energy Management, Regulation and Enforcement (BOEMRE), Interior.

ACTION: Notice of Meeting.

SUMMARY: The OCS Scientific Committee will meet at the Holiday Inn Cape Cod in Hyannis, Massachusetts.

DATES: Tuesday, May 17, 2011, from 9 a.m. to 4 p.m.; Wednesday, May 18, 2011, from 8 a.m. to 4:30 p.m.; and Thursday, May 19, 2011, from 10 a.m. to 4 p.m.

ADDRESSES: Holiday Inn Cape Cod, 1127 Iyannough Road, Hyannis, Massachusetts 02601, telephone (508) 775-1153.

FOR FURTHER INFORMATION CONTACT: A copy of the agenda may be requested from BOEMRE by emailing Ms. Carolyn Beamer at carolyn.beamer@boemre.gov. Other inquiries concerning the OCS SC meeting should be addressed to Dr. Rodney Cluck, Chief, Environmental Studies Program, Environmental Division, Bureau of Ocean Energy Management, Regulation and Enforcement, 381 Elden Street, Mail Stop 4043, Herndon, Virginia 20170-4817, or by calling (703) 787-1656 or via e-mail at rodney.cluck@boemre.gov.

SUPPLEMENTARY INFORMATION: The OCS SC will provide advice on the feasibility, appropriateness, and scientific value of the OCS Environmental Studies Program to the Secretary of the Interior through the Director of the BOEMRE. The SC will review the relevance of the research and data being produced to meet BOEMRE scientific information needs for decision making and may recommend changes in scope, direction, and emphasis.

The Committee will meet in plenary session on Tuesday, May 17. The Director will address the Committee on the general status of the BOEMRE and its activities. There will be a presentation on Alternative Energy Programs: Current Status and Next Steps, Updates of Activities Pertaining to the Priorities of the National Ocean Policy, Atlantic Governance Councils (NROC, MARCO), as well as an Update of Ongoing and Future Research Pertaining to the Deepwater Horizon Oil Spill. Following these presentations BOEMRE regional officials will discuss their most pertinent and current issues.

On Wednesday, May 18, the Committee will meet in discipline breakout sessions (i.e., biology/ecology, physical sciences, and social sciences) to review the specific studies plans of the BOEMRE regional offices for Fiscal Years 2012-2014.

On Thursday, May 19, the Committee will meet in plenary session for reports of the individual discipline breakout sessions of the previous day and to continue with Committee business.

The meetings are open to the public. Approximately 40 visitors can be accommodated on a first-come-first-served basis at the plenary session.

Authority: Federal Advisory Committee Act, Pub. L. 92-463, 5 U.S.C., Appendix I, and the Office of Management and Budget's Circular A-63, Revised.

Dated: April 14, 2011.
Robert P. LaBelle,
Acting Associate Director for Offshore Energy and Minerals Management.

[FR Doc. 2011-10034 Filed 4-25-11; 8:45 am]

BILLING CODE 4310-MR-P